DEPARTMENT OF HEALTH AND HUMAN SERVICES

National Institutes of Health

National Institute of Mental Health; Amended Notice of Meeting

Notice is hereby given of a change in the meeting of the National Institute of Mental Health Special Emphasis Panel, November 9, 2020, 12:00 p.m. to November 9, 2020, 05:00 p.m., National Institutes of Health, Neuroscience Center, 6001 Executive Boulevard, Rockville, MD, 20852 which was published in the Federal Register on October 16, 2020, 85 FR 65855.

This notice is being amended to change the meeting date for ERB I-01 from November 9, 2020 to November 19, 2020. The time remains the same. The meeting is closed to the public.

Dated: October 21, 2020.
Patricia B. Hansberger,
Supervisory Program Analyst, Office of Federal Advisory Committee Policy.

[FR Doc. 2020-23705 Filed 10-26-20; 8:45 am]

BILLING CODE 4140-01-P